COMMISSION ON CIVIL RIGHTS

Sunshine Act Meeting Notice

AGENCY: United States Commission on Civil Rights.

ACTION: Notice of Commission subcommittee meeting.

DATES: Wednesday March 4, 2020, 1:00-2:30 p.m. ET.

ADDRESSES: Meeting to take place by telephone.

FOR FURTHER INFORMATION CONTACT:

SUPPLEMENTARY INFORMATION: This business meeting is open to the public by telephone only: 1-800-353-6461, Conference ID 601-0676. Persons with disabilities who are requesting an accommodation for the call should contact Pamela Dunston at (202) 376-8105 or at access@usccr.gov at least three (3) business days before the scheduled date of the meeting.

Meeting Agenda

I. Approval of Agenda

II. Subcommittee Meeting: Roundtable to discuss business practices with employers and staff officials regarding workers with disabilities at a variety of work sites in Vermont

• Opening Statements by roundtable participants

• Commissioner Questions

III. Adjourn Meeting

Dated: February 26, 2020.
David Mussatt,
Supervisory Chief, Regional Programs Unit.

[FR Doc. 2020-04234 Filed 2-26-20; 4:15 pm]

BILLING CODE P